DEPARTMENT OF HOMELAND SECURITY

Federal Emergency Management Agency

Agency Information Collection Activities: Submission for OMB Review; Comment Request

AGENCY: Federal Emergency Management Agency, DHS.

ACTION: Notice; 30-day notice and request for comments; Revision of a currently approved collection, OMB Number 1660-0040, FEMA Form 81-93.

SUMMARY: The Federal Emergency Management Agency (FEMA) has submitted the following information collection to the Office of Management and Budget (OMB) for review and clearance in accordance with the requirements of the Paperwork Reduction Act of 1995. The submission describes the nature of the information collection, the categories of respondents, the estimated burden (i.e., the time, effort and resources used by respondents to respond) and cost, and includes the actual data collection instruments FEMA will use. FEMA is revising this collection to include the increase in respondents forecasted to respond to this information collection.

Collection of Information

Title: Standard Flood Hazard Determination Form.

OMB Number: 1660-0040.

Abstract: On September 23, 1994, the President signed the Riegle Community Development and Regulatory Improvement Act of 1994. Title V of this Act is the National Flood Insurance Reform Act (NIFRA). Section 528 of the NIFRA requires that FEMA develops a standard hazard determination form for recording the determination of whether a structure is located within an identified a Special Flood Hazard Area and whether flood insurance is available. Section 528 of the NIFRA also requires the use of this form by regulating lending institutions, federal agent lenders, the Federal National Association, the Federal Home Loan Mortgage Corporation, and the Government National Mortgage Association for any loan made, increased, extended, renewed, or purchased by these entities.

Affected Public: Business or other for-profit.

Number of Respondents: 46,456,460. The number of respondents has been increased since publication of the 60-day Federal Register Notice at 73 FR 30960, May 29, 2008.

Estimated Time per Respondent: 0.33 hours.

Estimated Total Annual Burden Hours: 15,330,632. The total Annual Burden Hours has increased since publication of the 60-day Federal Register Notice at 73 FR 30960, May 29, 2008.

Frequency of Response: On occasion.

Comments: Interested persons are invited to submit written comments on the proposed information collection to the Office of Information and Regulatory Affairs, Office of Management and Budget. Comments should be addressed to Desk Officer for the Department of Homeland Security, Federal Emergency Management Agency, and sent via electronic mail to oira.submission@omb.eop.gov or faxed to (202) 395-6974. Comments must be submitted on or before October 14, 2008.

FOR FURTHER INFORMATION CONTACT: Requests for additional information or copies of the information collection should be made to Director, Records Management Division, 500 C Street, SW., Washington, DC 20472, Mail Drop Room 301, facsimile number (202) 646-3347, or e-mail address FEMA-Information-Collections@dhs.gov.

Dated: September 5, 2008
John A. Sharetts-Sullivan,
Director, Records Management Division, Office of Management, Federal Emergency Management Agency, Department of Homeland Security.

[FR Doc. E8-21136 Filed 9-10-08; 8:45 am]

BILLING CODE 9110-11-P